DEPARTMENT OF STATE

[Delegation of Authority No. 267]

Special Exemptions From Port-of-Entry Special Registration, Fingerprinting and Photographing by Patrick J. Kennedy (National Interest)

By virtue of the authority vested in me as Secretary of State, including the authority of Section 1 of the State Department Basic Authorities Act of 1956 (22 U.S.C. 2651a), as amended, and the authority conferred on me by 8 CFR 264.1 (f), I hereby delegate the following functions as indicated.

Section 1. Functions Delegated to Patrick J. Kennedy

The functions vested in me as the Secretary of State by 8 CFR 264.1(f)(1) to determine that special registration, fingerprinting and photographing requirements shall not apply to an individual nonimmigrant alien upon arrival in the United States are delegated to Patrick J. Kennedy. Such a determination may be made only for an individual nonimmigrant alien when Mr. Kennedy determines in writing that an exception from such requirements for such individual is in the national interest and will not compromise national security interests. Mr. Kennedy may exercise the delegated functions only in his capacity as a State Department employee operating under the direction and supervision of the Secretary of State.

Section 2. Technical Provisions

a. Notwithstanding any provision of this Delegation of Authority, the Secretary of State, the Deputy Secretary of State and the Under Secretary of State for Management may at any time exercise any function delegated by this delegation of authority.

b. The functions delegated by this memorandum of authority may not be redelegated.

c. The statutes, regulations, and procedures referenced in this delegation shall be deemed to be such statutes, regulations or procedures as amended from time to time.

d. This delegation is in addition to delegations Nos. 253 and 254 regarding Exceptions from Port-of-Entry special Registration, Fingerprinting and Photographing.

This delegation and related delegations referenced herein shall be published in the Federal Register.

Dated: September 9, 2003.
Colin L. Powell,
Secretary of State, Department of State.

[FR Doc. 03-31880 Filed 12-24-03; 8:45 am]

BILLING CODE 4710-10-P